DEPARTMENT OF THE INTERIOR

Fish and Wildlife Service

[FWS-R2-ES-2012-N128; FXES11130200000C2-112-FF02ENEH00]

Recovery Plan Addendum; Thick-Billed Parrot

AGENCY: Fish and Wildlife Service, Interior.

ACTION: Notice of document availability.

SUMMARY: We, the Fish and Wildlife Service (Service), announce the availability of our final recovery plan addendum for the Thick-billed Parrot, which is listed as endangered under the Endangered Species Act of 1973, as amended (Act). We have developed this final recovery plan addendum to comply with a December 14, 2010, Stipulated Settlement Agreement between WildEarth Guardians and the Secretary of the Interior. This species is currently found in Mexico but has not been detected in the United States (U.S.) since 1938; however, historically the northern edge of its range also included southern Arizona and possibly southwestern New Mexico. The recovery plan addendum includes specific recovery objectives and criteria to be met in order to enable us to remove this species from the list of endangered and threatened wildlife and plants.

ADDRESSES: If you wish to review the recovery plan addendum, you may obtain a copy by any one of the following methods:

Internet: http://www.fws.gov/southwest/es/arizona/T-B_Parrot.htm or http://www.fws.gov/southwest/es/ElectronicLibrary_ListDocs.cfm Find Thick-billed_Parrot_Final_Recovery_Plan_Addendum_June_2013.pdf.

U.S. mail: Arizona Ecological Services Office, U.S. Fish and Wildlife Service, 2321 West Royal Palm Road, Phoenix, AZ 85021-4951; or

Telephone: 602-242-0210.

FOR FURTHER INFORMATION CONTACT: Susan Sferra, Fish and Wildlife Biologist, at Arizona Ecological Services Office, U.S. Fish and Wildlife Service, 201 N Bonita Ave., Suite 141, Tucson AZ 85745; or Telephone: (520) 670-6150 ext 230, or by email at Susan_Sferra@fws.gov.

SUPPLEMENTARY INFORMATION: We announce the availability of our final recovery plan addendum for the thick-billed parrot (Rhynchopsitta pachyrhyncha). The recovery plan addendum was prepared by biologists from the United States with participation by experts in Mexico. We made the draft recovery plan addendum available via a Federal Register notice published on June 19, 2012 (77 FR 36569); this notice opened a comment period that ran through August 20, 2012, and requested comments from local, State, and Federal agencies; Tribes; and the public. We considered information we received from these entities, as well as that obtained from fourteen independent peer reviewers, in finalizing this revised recovery plan.

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

Historically the thick-billed parrot's range extended from Mexico into southern Arizona and possibly southwestern New Mexico in the United States. There are no formal historical nesting records for the United States; however, thick-billed parrots visited southeastern Arizona, and in some years large flocks were observed (Snyder et al. 1999). The last confirmed report of a thick-billed parrot flock in United States was from the Chiricahua Mountains of southeastern Arizona in 1938 (Monson and Phillips 1981 in Snyder et al. 1999). Loss of thick-billed parrots in the U.S. was likely caused by excessive, unregulated shooting (Snyder et al. 1999). In Mexico, this species occurs in the States of Chihuahua, Sonora, Durango, Jalisco, Colima, and Michoacán, spanning the Sierra Madre Occidental.

The thick-billed parrot (Rhynchopsitta pachyrhyncha) was listed as an endangered species on June 2, 1970 (35 FR 8491), pursuant to the Endangered Species Conservation Act (ESCA), the precursor of the Endangered Species Act. Based on the different listing procedures for foreign and domestic species under the ESCA, the thick-billed parrot was listed as a “foreign” species. When the Endangered Species Act replaced the ESCA, the thick-billed parrot was not carried forward onto the Federal List of Endangered and Threatened Wildlife and Plants (List) for the United States due to an oversight, although the thick-billed parrot remained listed in Mexico. Subsequently, the parrot was proposed to be listed in the United States on July 25, 1980, wherein the proposed listing rule acknowledged that it was always the intention of the Service to list the thick-billed parrot as endangered in the United States (see 45 FR 49844, page 49845). In 2009, the U.S. Department of the Interior's Assistant Solicitor for Fish and Wildlife provided an explanation stating that the species has always been listed as endangered throughout its entire range (see 74 FR 33957). Today, the thick-billed parrot is listed throughout its range, including Mexico and the United States. Critical habitat has not been proposed for the thick-billed parrot.

Although thick-billed parrots no longer occur in the United States, the Service has developed this recovery plan addendum to comply with the December 14, 2010, Stipulated Settlement Agreement between WildEarth Guardians and the Secretary of the Interior. The Thick-billed Parrot Recovery Plan Addendum was created by adopting the 2009 thick-billed parrot recovery plan for Mexico, “Programa de Acción para la Conservación de las Especies: Cotorras Serranas (PACE),” and adding contents required by the Act (such as Recovery Criteria, Management Actions in the United States, and an Implementation Table) as an Addendum. In addition to statutory requirements of the Act, this addendum to the PACE addresses the species' historical occurrence in the United States, summarizes information from scientific literature and U.S. and Mexican biologists regarding the status and threats to the thick-billed parrot, and presents additional information required by U.S. recovery planning policy. We support the strategy for recovering the thick-billed parrot set forth in the PACE (2009) and note that this is the first time the U.S. Fish and Wildlife Service (Service) is adopting a Mexican recovery plan for a species to serve as the best available science to inform a U.S. recovery plan.

The PACE was initiated by the Mexican National Commission of Protected Natural Areas (Comisión Nacional de Áreas Protegidas, CONANP) under the 2007 Federal “Commitment to Conservation” programs in Mexico. Experts and public officials were brought together to prevent the deterioration of Mexican ecosystems and biodiversity. Thirty-five priority and endangered species were selected, including the thick-billed parrot, with the objective of creating the framework for, coordinating, and promoting the Federal government's efforts to recover these species within the Conservation Program for Species at Risk (PROCER). The focus of the PACE (2009) is on extant populations of the thick-billed parrot; it does not address extirpated thick-billed parrots or their historical range in the United States. As a result, our recovery actions are focused primarily on conservation within the current range of this species in Mexico and, to a lesser degree, on the potential for expansion into the historical range in the United States. Recommended actions for addressing current threats to the species and evaluating recovery may be applied or refined in the future.

The parrot's current range is limited to high elevations of the Sierra Madre Occidental of Mexico, extending from northwestern Chihuahua and northeastern Sonora into Durango and continuing in a southeasterly direction to Jalisco, Colima, and Michoacán. Thick-billed parrots migrate seasonally from their primary breeding (summering) grounds in Chihuahua to wintering areas farther south, possibly migrating 1,000 kilometers (km) (621 miles (mi)) or more between their summering and wintering areas (Snyder et al. 1999, PACE 2009). The northernmost breeding area is Mesa de Guacamayas, located within 80 km (50 mi) of the U.S.-Mexico border (Snyder et al. 1999).

Thick-billed parrots live in gregarious flocks in old-growth mixed-conifer forests and require a diversity of food resources and the availability of size-specific cavities for nesting. The thick-billed parrot primarily feeds on seeds of several pine species, and to a lesser extent on acorns and terminal buds of pine trees (Snyder et al. 1999). As an obligate cavity nester, the thick-billed parrot needs cavities typically found in large-diameter pines and snags. Because of their specialized habitat needs, thick-billed parrot populations have experienced significant historical declines, corresponding to a drastic loss of high-elevation mixed-conifer forests, mainly from a legacy of logging. Only 1 percent of the old-growth forests is estimated to remain, supporting small populations of thick-billed parrots concentrated in a handful of sites.

Threats to the thick-billed parrot include loss of habitat, primarily driven by extensive logging of large mature pines, removal of nesting snags (Snyder et al. 1999), and, to a lesser degree, catastrophic forest fires (PACE 2009); low numbers of individuals and small remaining populations, leaving them vulnerable to stochastic events; removal of birds from the wild in Mexico for the illegal pet trade; and climate change, based on projections for the Southwestern United States and northern Mexico predicting warmer, drier, and more drought-like conditions (Hoerling and Eischeid 2007; Seager et al. 2007). Loss of the thick-billed parrot in the United States was likely caused by excessive, unregulated shooting (Snyder et al. 1999). The recovery plan addendum recommends protection of currently occupied habitat; additional research to understand relationships between habitat, migration patterns, and population dynamics; development of a standardized monitoring protocol; development of replacement nesting habitat; verification of occupied wintering habitat; development of forest management plans; and the enforcement of existing environmental and species collection laws. The plan recognizes the need to manage these forest landscapes in both the United States and Mexico to maximize resources for the species.

Recovery Plan Goals

The objective of an agency recovery plan is to provide a framework for the recovery of a species so that protection under the Act is no longer necessary. A recovery plan includes scientific information about the species and provides criteria and actions necessary for us to be able to reclassify the species to threatened status or remove it from the Federal List of Endangered and Threatened Wildlife and Plants (List). Recovery plans help guide our recovery efforts by describing actions we consider necessary for the species' conservation and by estimating time and costs for implementing needed recovery measures. To achieve its goals, this recovery plan addendum identifies the following objectives:

• Support the thick-billed parrot throughout its range in perpetuity.

• Maintain habitat conditions necessary to provide feeding, nesting, and wintering habitat for the thick-billed parrot through time.

• Assess the potential for the United States to support naturally dispersing or actively relocated thick-billed parrots, including a review of U.S. historical habitat, current habitat management, and habitat connectivity with Mexico.

The recovery plan addendum contains recovery criteria based on maintaining and increasing population numbers and habitat quality and quantity. The recovery plan addendum focuses on protecting populations, managing threats, maintaining habitat, monitoring progress, and building partnerships to facilitate recovery.

As the thick-billed parrot meets recovery criteria, we will review the subspecies' status and consider downlisting, and, ultimately, removal from the List.

References Cited

A complete list of all references cited herein is available upon request from the U.S. Fish and Wildlife Service, Branch of Recovery (see FOR FURTHER INFORMATION CONTACT section).

Authority

We developed our final recovery plan addendum under the authority of section 4(f) of the Act, 16 U.S.C. 1533(f). We publish this notice under section 4(f) Endangered Species Act of 1973, as amended (16 U.S.C. 1531 et seq.).

Dated: June 20, 2013.
Joy E. Nicholopoulos,
Acting Regional Director, Southwest Region, U.S. Fish and Wildlife Service.

[FR Doc. 2013-15945 Filed 7-1-13; 8:45 am]

BILLING CODE 4310-55-P